DEPARTMENT OF VETERANS AFFAIRS

[OMB Control No. 2900-0913]

Agency Information Collection Activity: Veteran Toxic Exposure Screening Tool (PACT Act)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 24, 2023.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0913” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0913” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Veteran Toxic Exposure Screening Tool (PACT Act), VA Form 10-327.

OMB Control Number: 2900-0913.

Type of Review: Extension of a currently approved collection.

Abstract: The PACT Act was signed into law on August 10, 2022, and mandated that VA implement toxic exposure screening to identify Veterans with potential toxic exposures during military, naval, air, or space service. The PACT Act imposed a Congressionally mandated timeline to implementation of 90 days, with full implementation completed by November 8, 2022. Pursuant to a six-month emergency PRA clearance from OMB, and to ensure efficacy of the screening tool and ease of use by screeners, the project team performed a pilot test of the toxic screening tool with a sampling from seven targeted clinical areas and sites for 10 days, beginning September 6, 2022. The goal was to collect feedback and best practices to use in refining the screening tool and training to increase best chance for success. VHA now seeks to renew the PRA clearance for the screening tool for a full three years.

Information collected during the toxic exposure screening will be included in the Veteran's electronic health record and will be used to connect Veterans with resources, services, and benefits available, as well as provide guidance that Veterans be engaged in ongoing care or establish care in VA or the community to address their exposure concerns. VA will use several different methods of gathering information from Veterans through the toxic exposure screening, including VHA staff or community care staff administering the screening during a health care appointment, VHA staff administering at other Veteran touch point events (e.g., screening blitz event), and Veterans completing the screening independently before being contacted by VHA staff for a follow-up consultation. Veterans have the option of declining the toxic exposure screening.

Affected Public: Individuals or households.

Estimated Annual Burden: 138,333 hours.

Estimated Average Burden per Respondent: 5 minutes.

Frequency of Response: One time.

Estimated Number of Respondents: 1,660,000.

By direction of the Secretary.
Maribel Aponte,
VA PRA Clearance Officer, Office of Enterprise and Integration/Data Governance Analytics, Department of Veterans Affairs.

[FR Doc. 2022-25772 Filed 11-23-22; 8:45 am]

BILLING CODE 8320-01-P